DEPARTMENT OF AGRICULTURE

Animal and Plant Health Inspection Service

[Docket No. APHIS-2019-0055]

Notice of Determination of the Highly Pathogenic Avian Influenza and Newcastle Disease Status of Romania

AGENCY: Animal and Plant Health Inspection Service, Agriculture (USDA).

ACTION: Notice.

SUMMARY: We are advising the public that we are recognizing Romania as being free of highly pathogenic avian influenza and Newcastle disease. This recognition is based on a risk evaluation we prepared and made available for public review and comment.

DATES: This change of disease status will be recognized on August 26, 2020.

FOR FURTHER INFORMATION CONTACT: Mr. Javier Vargas, Senior Staff Officer, Regionalization Evaluation Services, Veterinary Services, APHIS, USDA, 4700 River Road, Unit 38, Riverdale, MD 20737-1231; Javier.vargas@usda.gov; (301) 851-3316.

SUPPLEMENTARY INFORMATION: The regulations in 9 CFR part 94 (referred to below as the regulations) govern the importation of certain animals and animal products into the United States in order to prevent the introduction of various animal diseases, including highly pathogenic avian influenza (HPAI) and Newcastle disease. Within part 94, § 94.6 contains requirements governing the importation of carcasses, meat, parts or products of carcasses, and eggs (other than hatching eggs) of poultry, game birds, or other birds from regions where HPAI and Newcastle disease is considered to exist.

In accordance with § 94.6(a)(1)(i), the Animal and Plant Health Inspection Service (APHIS) maintains a list of regions in which Newcastle disease is not considered to exist. Paragraph (a)(1)(ii) states that APHIS will add a region to this list after it conducts an evaluation of the region and finds that Newcastle disease is not likely to be present in its commercial bird or poultry populations.

In accordance with § 94.6(a)(2)(i), APHIS maintains a list of regions in which HPAI is considered to exist. Paragraph (a)(2)(ii) states that APHIS will remove a region from this list only after it conducts an evaluation of the region and finds that HPAI is not likely to be present in its commercial bird or poultry populations.

In 9 CFR part 92, § 92.2 contains requirements for requesting the recognition of the animal health status of a region (as well as for the approval of the export of a particular type of animal or animal product to the United States from a foreign region). If, after review and evaluation of the information submitted in support of the request, APHIS believes the request can be safely granted, APHIS will make its evaluation available for public comment through a document published in the Federal Register.

In accordance with that process, we published a notice ¹ in the Federal Register on September 16, 2019 (84 FR 48580-48581, Docket No. APHIS-2019-0055) announcing the availability for review and comment of our evaluation of the HPAI and Newcastle disease status of Romania. Based on this evaluation, APHIS concluded that Romania meets the requirements to form part of the European Union Poultry Trade Region (EUPTR), a region of the European Union recognized by APHIS that meets APHIS requirements for being considered low risk of HPAI and Newcastle disease, and for which the importation of live birds and poultry and poultry meat and products is harmonized.

¹ To view the notice, risk evaluation, environmental assessment, and finding of no significant impact, go to http://www.regulations.gov/#!docketDetail;D=APHIS-2019-0055.

We solicited comments on the notice for 60 days ending November 15, 2019. We received no comments by that date.

Newcastle Disease Detection

On November 29, 2019, Romania's National Sanitary Veterinary Authority confirmed Newcastle disease in one commercial farm with laying hens located in the Nicolae Bălcescu locality, Călăraşi County, after an absence of more than 2 years. The affected flock experienced a total mortality of 3,815 birds, and the remaining birds were culled for a total of 6,871 birds. The National Sanitary Veterinary Authority, through the local competent authority, placed restrictions to eradicate the disease and to prevent commodities that could harbor the disease from being exported, in conformity with European Community (EC) regulations regarding the Community measures for the control of Newcastle disease. These measures included a control zone with a radius of at least 3 kilometers (km), and a surveillance zone with a radius of at least 10 km around the affected farm.

Tracing, additional testing, preliminary cleaning, and disinfestation measures were completed on December 5, 2019. Other measures, including disinfection of bedding material and treatment of surfaces, were carried out between December 6 and December 20, 2019. A final disinfection was completed on December 27, 2019. Sentinel birds were used to confirm the eradication of the disease. The event was closed on March 2, 2020.

The epidemiological investigation concluded that the occurrence of the disease was due to a combination between breaches in the farm biosecurity that allowed contact with wild birds and failure to comply with the vaccination protocol. No other sick or dead poultry were found in either the surveillance zone or the protection zone. The movement of live poultry and poultry products from Călăraşi County was prohibited during the entire period of the event.

H5N1 HPAI Detection

On January 14, 2020, Romania's National Sanitary Veterinary Authority confirmed H5N8 avian influenza on a farm in Seini, Maramur County, the first such outbreak in nearly 3 years. The affected flock experienced increased mortality of a total of 11,190 birds out of a flock of 18,699; the remaining 7,509 birds were culled. Romania immediately implemented strict movement restrictions in this area according to EC regulations on protective measures in relation to HPAI. These measures included a control zone with a radius of at least 3 km and a surveillance zone with a radius of at least 10 km around the affected farm.

A second outbreak was confirmed on January 17, 2020, on a farm with 22,762 laying hens located approximately 300 meters from the first outbreak. The affected flock experienced a mortality of 220 birds, and the remaining 22,542 were culled. Strict movement restrictions were implemented, including a control zone with a radius of at least 3 km and a surveillance zone with a radius of at least 10 km around the affected farm. The epidemiological investigation concluded that a vehicle used at both farms was likely the cause of spread. The sequence analysis of isolates showed close relationship to viruses detected in wild birds in Russia in 2018.

No further outbreaks had been detected, and the cleaning, disinfection and treatment of affected premises and of materials and equipment were ongoing in accordance with the procedures established by EC regulations. Commodities from restriction zones (protection and surveillance zones) due to HPAI or Newcastle disease were not allowed to exit zones until the restrictions were lifted. Officials certifying commodities from areas outside of the restriction zones must follow the certification procedures enforced by Romania under national legislation and by the EU under EC regulations.

As we stated in the initial notice, HPAI and Newcastle disease are known to exist in wild populations in Romania. This can lead to periodic events such as those detailed above. However, the scope of the disease events and Romania's response are consistent with our evaluation and do not undermine our conclusion that Romania can be added to the EUPTR. Moreover, because APHIS has determined that the affected birds have been depopulated, we have no reason to believe that HPAI or Newcastle disease currently exists in commercial bird or poultry populations within Romania.

We are therefore adding Romania to the list of countries in which Newcastle disease is not considered to exist, removing Romania from the list of countries in which HPAI is considered to exist, and adding Romania to the EUPTR.

Authority: 7 U.S.C. 1633, 7701-7772, 7781-7786, and 8301-8317; 21 U.S.C. 136 and 136a; 31 U.S.C. 9701; 7 CFR 2.22, 2.80, and 371.4.

Done in Washington, DC, this 20th day of August 2020.
Michael Watson,
Acting Administrator, Animal and Plant Health Inspection Service.

[FR Doc. 2020-18690 Filed 8-25-20; 8:45 am]

BILLING CODE 3410-34-P